DEPARTMENT OF TRANSPORTATION

Research & Innovative Technology Administration

[Docket No.: RITA-2005-23755]

Agency Information Collection; Activity Under OMB Review; Passenger Origin-Destination Survey Report

AGENCY: Research & Innovative Technology Administration (RITA), Bureau of Transportation Statistics (BTS), DOT.

ACTION: Notice.

SUMMARY: In compliance with the Paperwork Reduction Act of 1995, Public Law 104-13, (44 U.S.C. 3501 et seq.) this notice announces that the Information Collection Request, abstracted below, is being forwarded to the Office of Management and Budget for extension of currently approved reporting requirements. Earlier, a Federal Register Notice with a 60-day comment period was published on February 3, 2006 (71 FR 5904). The agency did not receive any comments to its previous notice.

DATES: Written comments should be submitted by May 31, 2006.

FOR FURTHER INFORMATION CONTACT: Bernie Stankus, Office of Airline Information, RTS-42, Room 4125, RITA, BTS, 400 Seventh Street, SW., Washington, DC 20590-0001, Telephone Number (202) 366-4387, Fax Number (202) 366-3383 or E-MAIL bernard.stankus@dot.gov.

Comments: Comments should be sent to OMB at the address that appears below and should identify the associated OMB Number 2139-0001 and Docket Number RITA-2005-23755.

SUPPLEMENTARY INFORMATION: OMB Approval No.: 2139-0001.

Title: Passenger Origin-Destination Survey Report.

Form No.: None.

Type Of Review: Extension of a currently approved reporting requirement.

Respondents: Large certificated air carriers.

Number of Respondents: 32.

Total Annual Burden: 30,720 hours.

Needs and Uses: Survey data are used in monitoring the airline industry, negotiating international air agreements, selecting new international routes, selecting U.S. carriers to operate limited entry international routes, forecasting future traffic demands, and modeling the spread of contagious diseases from foreign countries.

The Confidential Information Protection and Statistical Efficiency Act of 2002 (44 U.S.C. 3501 note), requires a statistical agency to clearly identify information it collects for non-statistical purposes. BTS hereby notifies the respondents and the public that BTS uses the information it collects under this OMB approval for non-statistical purposes including, but not limited to, publication of both Respondent's identity and its data, submission of the information to agencies outside BTS for review, analysis and possible use in regulatory and other administrative matters.

ADDRESSES: Send comments to the Office of Information and Regulatory Affairs, Office of Management and Budget, 715-17th Street, NW., Washington, DC 20503, Attention RITA Desk Officer.

Comments are invited on whether the proposed retention of records is necessary for the proper performance of the functions of the Department of Transportation.

Issued in Washington, DC, on April 25, 2006.
Donald W. Bright,
Assistant Director, Airline Information, Bureau of Transportation Statistics.

[FR Doc. E6-6533 Filed 4-28-06; 8:45 am]

BILLING CODE 4910-HY-P